ENVIRONMENTAL PROTECTION AGENCY

[FRL-9653-6]

Environmental Financial Advisory Board; Notice of Charter Renewal

AGENCY: Environmental Protection Agency (EPA).

ACTION: Notice of Charter renewal.

The Charter for the Environmental Protection Agency's Environmental Financial Advisory Board (EFAB) will be renewed for an additional two-year period, as a necessary committee which is in the public interest, in accordance with the provisions of the Federal Advisory Committee Act (FACA), 5 U.S.C. App. 2. The purpose of EFAB is to provide advice and recommendations to the Administrator of EPA on issues associated with environmental financing.

It is determined that EFAB is in the public interest in connection with the performance of duties imposed on the Agency by law.

Inquiries may be directed to Joseph L. Dillon, Director, Center for Environmental Finance, U.S. EPA, Ariel Rios Building, 1200 Pennsylvania Ave. NW., Washington, DC 20460 (Mail Code 2731A), Telephone (202) 564-9679, or dillon.joe@epa.gov.

Dated: March 21, 2012.
Vanessa Bowie,
Acting Director, Center for Environmental Finance.

[FR Doc. 2012-7576 Filed 3-28-12; 8:45 am]

BILLING CODE 6560-50-P